DEPARTMENT OF AGRICULTURE
Forest Service
Robert Wedge Post Fire Project, Flathead National Forest, Flathead County, MT

AGENCY:
Forest Service, USDA.

ACTION:
Notice; intent to prepare environmental impact statement.

SUMMARY:
The Forest Service will prepare an environmental impact statement (EIS) for a resource management project within the Robert and Wedge Canyon Fire Areas which burned approximately 13,000 acres and 21,000 acres respectively on National Forest System lands in July-September of 2003. The project area is on the Hungry Horse/Glacier View Ranger District, Flathead National Forest, and is bordered on the east by Glacier National Park and the North Fork of the Flathead River. The city of Columbia Falls, Montana is located approximately 8 miles south of the Robert Fire and approximately 40 miles south of the Wedge Canyon Fire.

DATES:
Substantive comments concerning the proposed project and analysis should be received in writing on or before February 27, 2004. A public scoping meeting will be held in the town of Kalispell, Montana in February of 2004. The draft environmental impact statement (DEIS) is expected to be filed with the Environmental Protection Agency and made available for public review in May 2004. The final environmental impact statement (FEIS) is expected to be published in September 2004.

ADDRESSES:

Substantive comments should be submitted to Project Leader, Robert Wedge Post Fire Project, P.O. Box 190340, Hungry Horse, Montana 59919, fax (406) 387-3889 or electronically to comments-northern-flathead-hungry-horse-glacier-view@fs.fed.us Substantive comments are those with the scope of, are specific to, and have a direct relationship to the proposed action, and include supporting reasons that the Responsible Official should consider in reaching a decision. Comments received in response to this request will be available for public inspection and will be released in their entirety if requested pursuant to the Freedom of Information Act.

FOR FURTHER INFORMATION CONTACT:

Kathy Ramirez, Project Leader, (208) 331-5908, fax (208) 387-0842 or kramirez@fs.fed.us.

SUPPLEMENTARY INFORMATION:
This project proposal will be conducted under Title IV—The Flathead and Kootenai National Forest Rehabilitation Act which was included in the Department of Interior and Related Agencies Appropriations Act of 2004 and approved by President Bush in November 2003. The findings of this title include that the Robert and Wedge fires of 2003 caused extensive resource damage on the Flathead National Forest, and the rehabilitation of burned areas needs to be completed in a timely manner in order to reduce the long-term environmental impacts. Wildlife and watershed resource values will be maintained in areas effected by the Robert and Wedge fires while exempting the rehabilitation effort from certain applications of the National Environmental Policy Act and the Clean Water Act.
This environmental impact statement will not be required to study, develop, or describe any alternative to the proposed agency action. Consistent with the Clean Water Act and Montana Code 75-703(10)(b), the Secretary is not prohibited from implementing projects under this title due to a lack of Total Maximum Daily Load as provided for under section 303(d) of the Clean Water Act, except that the Secretary shall comply with any best management practices required by the State of Montana. If a consultation is required under section 7 of the Endangered Species Act for a project under this title, the Secretary of Interior shall expedite and give precedence to such consultation over any similar requests.
To encourage meaningful participation during preparation of a project under this title, the Secretary shall facilitate collaboration among the State of Montana, local governments, and Indian tribes, and participation of interested persons, in a manner consistent with the Implementation Plan for the 10 year Comprehensive Strategy of a Collaborative Approach for reducing Wildland Fire Risks to Communities and the Environment (May 2002).
A collaborative process involving over 100 participants occurred January 5-10 of 2004 in Kalispell, Montana, to develop ideas for restoration, salvage and road management in areas affected by the Robert and Wedge Canyon Fires. The entire group came to agreement on the following statements; coordinate salvage entries with other rehabilitation treatments, protect sites as necessary with horizontal placement and retention of woody debris, complete salvage harvest in a timely manner to maximize economic return, utilize Best Management Practices to minimize soil erosion and protect water quality, and in some riparian areas, where INFISH rules can be met, salvage, restoration, rehabilitation, reforestation shall occur. The results of this collaborative process were used to guide the proposed action. The purpose of the proposal is to recover merchantable wood fiber affected by the Robert and Wedge Canyon Fires in a timely manner to support local communities, contribute to the long term yield of forest products and to rehabilitate areas within the fire perimeters to enhance site productivity.
The proposed action includes salvage harvest of approximately 4500 acres of fire killed or tree damaged by the fires and likely to die. An estimated 35 million board of timber would be available for harvest using tractor, cable, and helicopter logging systems. Planting of conifer seedlings would also be included.
Access for salvage would include the use of existing classified and unclassified roads. Ground based logging would require new temporary roads that would be recontoured or rehabilitated after logging activities. No new permanent roads would be constructed for salvage activities. The proposed action does not include timber harvest or temporary road construction in Inventoried Roadless Areas (IRAs).

The proposed action would include activities to modify wheeled motorized access within the Lower Whale and Canyon McGinnis grizzly bear subunits to improve grizzly bear security. Approximately 5 miles of open yearlong/seasonally open road would be restricted yearlong and 16 miles of road would be decommissioned in both grizzly bear subunits. The Flathead Forest Plan has open motorized access, total motorized access, and security core standards that would be amended with a project specific amendment in this project.

More detailed scoping information and maps can be accessed on the Flathead National Forest Internet site at http://www.fs.fed.us/rl/flathead/.

This EIS will tier to the Flathead National Forest Land and Resource Management Plan and EIS of January 1986, and its subsequent amendments, which provides overall guidance for land management activities on the Flathead National Forest.
Preliminary issues and concerns with the proposal include potential impacts on threatened and endangered species such as grizzly bear, lynx, and bull trout, and on motorized access. Alternatives being considered at this time are this proposed action and the no action alternative.

The comment period on the draft environmental impact statement will be 45 days from the date the Environmental Protection Agency publishes the notice of availability in the Federal Register.

The Forest Service believes it is important to give reviewers notice at this early stage of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.
To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement (Reviewers may wish to refer to the Council on Environmental Quality Regulations for implementing the procedural provisions of the National Environmental Policy Act at 40 CFR 1503.3 in addressing these points).
The Responsible Official is the Forest Supervisor of the Flathead National Forest, 1935 3rd Avenue East, Kalispell, Montana 59901. The Forest Supervisor will make a decision regarding this proposal considering the comments and responses, environmental consequences discussed in the final EIS, and applicable laws, regulations, and policies. The Responsible Official will decide whether or not to select the proposed action, and if so, what design features and/or mitigation measures would be applied to proposed activities. The decision and rationale for the decision will be documented in a Record of Decision. That decision will be subject to appeal under applicable Forest Service regulations.

Dated: January 22, 2004.
Cathy Barbouletos,
Forest Supervisor—Flathead National Forest.

[FR Doc. 04-1766 Filed 1-29-04; 8:45 am]
BILLING CODE 3410-11-M